DEPARTMENT OF DEFENSE

Office of the Secretary

[Docket ID DoD-2013-OS-0014]

Proposed Collection; Comment Request

AGENCY: National Geospatial-Intelligence Agency (NGA), DoD.

ACTION: Notice.

In compliance with Section 3506(c)(2)(A) of the Paperwork Reduction Act of 1995, the Online GEOINT Services (OGS) directorate of NGA announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 25, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Chief of Account Management, Online GEOINT Services—Customer Account Management (OGSU), National Geospatial-Intelligence Agency, ATTN: Linda White, National Geospatial-Intelligence Agency, 3838 Vogel Road, Arnold, MO 63010-6205 or call OGSU at 636-321-5351.

Title; Associated Form; and OMB Number: OGSU Customer Segmentation Study, OMB Control Number: 0704-TBD.

Needs and Uses: The information collection requirement is necessary to develop customer service models regarding consumers of geospatial information to assist with the development of products and services that best meet mission requirements for those customers.

Affected Public: Contracting personnel working for DoD or Federal Civilian agencies, employees working for other levels of government to include State, Municipal, County or Tribal, who may at times support a federal agency (such as a first responder supporting FEMA during a disaster relief effort), personnel working for any organization serving the ASG: The Allied System for Geospatial Intelligence, a federation of countries (allies) of the United States interested in geospatial concerns.

Annual Burden Hours: 1,350.

Number of Respondents: 2,700.

Responses per Respondent: 1.

Average Burden per Response: 15 minutes.

Frequency: Semi-annually.

SUPPLEMENTARY INFORMATION:

Summary of Information Collection

Respondents are geospatial professionals who participate in the tasking, collection, analysis, dissemination, or various other support roles. Many of these roles involve life and death decision-support, and NGA seeks ways to deliver geospatial information more rapidly and more efficiently. By understanding requirements, NGA can develop products and services and delivery methods that provide the necessary decision-support.

Dated: January 18, 2013.
Aaron Siegel,
Alternate OSD Federal Register Liaison Officer, Department of Defense.

[FR Doc. 2013-01411 Filed 1-23-13; 8:45 am]

BILLING CODE 5001-06-P